INTERNATIONAL TRADE COMMISSION

[Inv. No. 337-TA-565]

In the Matter of Certain Ink Cartridges and Components Thereof; Notice of a Commission Determination Not to Review an Initial Determination Amending the Complaint and Notice of Investigation to Add a Respondent and Then Terminating the Respondent on the Basis of a Settlement Agreement, Consent Order Stipulation and Consent Order; Issuance of Consent Order

AGENCY: U.S. International Trade Commission.

ACTION: Notice.

SUMMARY: Notice is hereby given that the U.S. International Trade Commission has determined not to review an initial determination (“ID”) of the presiding administrative law judge (“ALJ”) in the above-captioned investigation amending the complaint and notice of investigation to add a respondent and then terminating the investigation with respect to that respondent on the basis of a settlement agreement, consent order stipulation, and consent order.

FOR FURTHER INFORMATION CONTACT: Michael K. Haldenstein, Office of the General Counsel, U.S. International Trade Commission, 500 E Street, SW., Washington, DC 20436, telephone (202) 205-3041. Copies of the public version of the ALJ's ID and all other nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation on March 23, 2006, based on a complaint filed by Epson Portland, Inc. of Oregon; Epson America, Inc. of California; and Seiko Epson Corporation of Japan. 71 FR 14720 (March 23, 2006). The complaint, as amended, alleged violations of section 337 of the Tariff Act of 1930, as amended, 19 U.S.C. 1337, in the importation into the United States, the sale for importation, and the sale within the United States after importation of certain ink cartridges and components thereof by reason of infringement of claim 7 of U.S. Patent No. 5,615,957; claims 18, 81, 93, 149, 164, and 165 of U.S. Patent No. 5,622,439; claims 83 and 84 of U.S. Patent No. 5,158,377; claims 19 and 20 of U.S. Patent No. 5,221,148; claims 29, 31, 34, and 38 of U.S. Patent No. 5,156,472; claim 1 of U.S. Patent No. 5,488,401; claims 1-3 and 9 of U.S. Patent No. 6,502,917; claims 1, 31, and 34 of U.S. Patent No. 6,550,902; claims 1, 10, and 14 of U.S. Patent No. 6,955,422; claim 1 of U.S. Patent No. 7,008,053; and claims 21, 45, 53, and 54 of U.S. Patent No. 7,011,397. The complaint further alleged that an industry in the United States exists as required by subsection (a)(2) of section 337. The complainants requested that the Commission issue a general exclusion order and cease and desist orders. The Commission named as respondents 24 companies located in China, Germany, Hong Kong, Korea, and the United States. The ALJ set June 25, 2007, as the target date for completion of the investigation.

On January 9, 2007, complainants and proposed respondent Rhinotek Computer Products, Inc. (“RCPI”) filed a joint motion seeking to amend the complaint and notice of investigation to add RCPI as a respondent in the investigation and then to terminate the investigation with respect to RCPI based upon a settlement agreement, consent order stipulation, and proposed consent order. RCPI is the successor-in-interest to respondent Gerald Chamales Corporation (d/b/a/ Rhinotek Computer Products). The Commission investigative attorney supported the motion in a response dated January 26, 2007. No other parties responded to the motion.

On January 30, 2007, the ALJ issued the subject ID (Order No. 30) amending the complaint and notice of investigation to add RCPI to the investigation and then terminating the investigation with respect to RCPI on the basis of a settlement agreement, consent order stipulation, and proposed consent order. No petitions for review of the ID were filed and the Commission has determined not to review the ID.

This action is taken under the authority of section 337 of the Tariff Act of 1930, as amended, 19 U.S.C. 1337, and Commission rules 210.14, 210.21 and 210.42, 19 CFR 210.14, 210.21, 210.42.

Issued: February 22, 2007.
By order of the Commission.
Marilyn R. Abbott,
Secretary to the Commission.

[FR Doc. E7-3537 Filed 2-28-07; 8:45 am]

BILLING CODE 7020-02-P